DEPARTMENT OF AGRICULTURE

Office of Advocacy and Outreach

Submission for OMB Review; Comment Request

August 23, 2016.

The Department of Agriculture has submitted the following information collection requirement(s) to OMB for review and clearance under the Paperwork Reduction Act of 1995, Public Law 104-13. Comments are requested regarding (1) whether the collection of information is necessary for the proper performance of the functions of the agency, including whether the information will have practical utility; (2) the accuracy of the agency's estimate of burden including the validity of the methodology and assumptions used; (3) ways to enhance the quality, utility and clarity of the information to be collected; and (4) ways to minimize the burden of the collection of information on those who are to respond, including through the use of appropriate automated, electronic, mechanical, or other technological collection techniques or other forms of information technology.

Comments regarding this information collection received by September 26, 2016 will be considered. Written comments should be addressed to: Desk Officer for Agriculture, Office of Information and Regulatory Affairs, Office of Management and Budget (OMB), New Executive Office Building, 725 17th Street NW., Washington, DC 20502. Commenters are encouraged to submit their comments to OMB via email to: OIRA_Submission@OMB.EOP.GOV or fax (202) 395-5806 and to Departmental Clearance Office, USDA, OCIO, Mail Stop 7602, Washington, DC 20250-7602. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Office of Advocacy and Outreach

Title: USDA/1994 Tribal Scholars Program.

OMB Control Number: 0503-0016.

Summary of Collection: The purpose of the U.S. Department of Agriculture 1994 Tribal Scholars Program is to strengthen the long-term partnership between USDA and the 1994 Land-Grant Institutions to increase the number of students studying and graduating in food, agricultural, natural resources, and other related fields of study, and to develop a pool of scientists and professionals to annually fill 50,000 jobs in the food, agricultural, and natural resources system. The USDA/1994 Tribal Scholars Program, within the Office of the Assistant Secretary for Administration, Office of Advocacy and Outreach, is an annual joint human capital initiative between USDA and the Nation's 1994 Land-Grant Institutions, also known as 1994 Tribal Colleges and Universities. This program offers a combination of paid work experience with a USDA sponsoring agency through an appointment under the Fellowship Experience Program. USDA Tribal Scholarship recipients are required to study in the food, and agricultural, and related sciences, as defined by the National Agricultural Research, Extension, and Teaching Policy Act of 1977 (7 U.S.C. 3103 (8)).

Need and Use of the Information: Information will be collected to determine the eligibility of applicants to the USDA Tribal Scholars Program. Each applicant to the program will be required to apply to announcements of the USDA Tribal Scholars Program and submit an application with required documentation. The required documentation will include: (1) A resume; (2) Proof of acceptance or enrollment in school, a letter of acceptance, or proof of registration, or letter from school official on official letterhead; (3) A copy of the last high school or college transcript; and (4) Two letters of recommendation. The collected information is needed for identifying and tracking capital needs of USDA agencies from 1994 Land-Grant Institutions through an internship and an award of an annually reviewed and renewal scholarship with the objective of preparing the student to complete for placement into USDA's workforce.

Description of Respondents: Individuals or households.

Number of Respondents: 300.

Frequency of Responses: Reporting: Annually.

Total Burden Hours: 360.

Ruth Brown,
Departmental Information Collection Clearance Officer.

[FR Doc. 2016-20518 Filed 8-25-16; 8:45 am]

BILLING CODE 3412-88-P